DEPARTMENT OF HOUSING AND URBAN DEVELOPMENT

24 CFR Parts 3280 and 3282

[Docket No. FR-5877-P-01]

RIN 2502-AJ33

Manufactured Home Procedural and Enforcement Regulations; Revision of Exemption for Recreational Vehicles

AGENCY: Office of the Assistant Secretary for Housing-Federal Housing Commissioner, HUD.

ACTION: Proposed rule.

SUMMARY: This rulemaking proposes to revise the exemption for recreational vehicles that are not self-propelled from HUD's Manufactured Housing Procedural and Enforcement Regulations. This proposed rule is based on a recommendation adopted by the Manufactured Housing Consensus Committee (MHCC) which would define a recreational vehicle as one built on a vehicular structure, not certified as a manufactured home, designed only for recreational use and not as a primary residence or for permanent occupancy, and built and certified in accordance with either the National Fire Protection Association (NFPA) 1192-15 or American National Standards Institute (ANSI) A119.5-09 consensus standards for recreational vehicles. HUD is adopting the MHCC's recommendation but modifying it to require certification with the updated ANSI standard, A119.5-15, and by including a requirement that units claiming the ANSI A119.5-15 exemption prominently display a notice stating that the unit is designed only for recreational use, and not as a primary residence or permanent dwelling.

DATES: Comments Due Date: April 11, 2016.

ADDRESSES: Interested persons are invited to submit comments regarding this rule to the Regulations Division, Office of General Counsel, Department of Housing and Urban Development, 451 Seventh Street SW., Washington, DC 20410-0500. Room 10276, Washington, DC 20410-0500. Communications must refer to the above docket number and title. There are two methods for submitting public comments. All submissions must refer to the above docket number and title.

1. Submission of Comments by Mail. Comments may be submitted by mail to the Regulations Division, Office of General Counsel, Department of Housing and Urban Development, 451 7th Street SW., Room 10276, Washington, DC 20410-0500.

2. Electronic Submission of Comments. Interested persons may submit comments electronically through the Federal eRulemaking Portal at www.regulations.gov. HUD strongly encourages commenters to submit comments electronically. Electronic submission of comments allows the commenter maximum time to prepare and submit a comment, ensures timely receipt by HUD, and enables HUD to make them immediately available to the public. Comments submitted electronically through the www.regulations.gov Web site can be viewed by other commenters and interested members of the public. Commenters should follow the instructions provided on that site to submit comments electronically.

Note: To receive consideration as public comments, comments must be submitted through one of the two methods specified above. Again, all submissions must refer to the docket number and title of the rule.

No Facsimile Comments. Facsimile (FAX) comments are not acceptable.

Public Inspection of Public Comments. All properly submitted comments and communications submitted to HUD will be available for public inspection and copying between 8 a.m. and 5 p.m. weekdays at the above address. Due to security measures at the HUD Headquarters building, an advance appointment to review the public comments must be scheduled by calling the Regulations Division at 202-708-3055 (this is not a toll-free number). Individuals with speech or hearing impairments may access this number through TTY by calling the Federal Information Relay Service at 800-877-8339. Copies of all comments submitted are available for inspection and downloading at www.regulations.gov.

FOR FURTHER INFORMATION CONTACT: Pamela Beck Danner, Administrator, Office of Manufactured Housing Programs, Office of Housing, Department of Housing and Urban Development, 451 Seventh Street SW., Washington DC 20410; telephone (202) 708-6409 (this is not a toll free number). Persons with hearing or speech impairments may access this number via TTY by calling the toll free Federal Information Relay Service at 1-800-877-8389.

SUPPLEMENTARY INFORMATION:

I. Background

The National Manufactured Housing Construction and Safety Standards Act of 1974 ¹ (Pub. L. 93-383, approved August 22, 1974) (42 U.S.C. 5401-5426) (the Act) authorizes HUD to establish and amend the Federal Manufactured Home Construction and Safety Standards (the Construction and Safety Standards, or Standards). When originally enacted, the Act covered mobile homes, defined as “a structure, transportable in one or more sections, which is eight body feet or more in width and is thirty-two feet in length.” Consequently, structures measuring less than 256 square feet were excluded from the definition of mobile home under the Act.

¹ When originally enacted as Title VI of the Housing and Community Development Act of 1974, the Act was titled the “Mobile Home Construction and Safety Standards Act of 1974”. Section 308 of the Housing and Community Development Act of 1980 (Pub. L. 96-399, approved October 8, 1980) amended the Act by replacing “Mobile Home” with “Manufactured Housing” in the title and by replacing each reference to “mobile home' with “manufactured home.” Section 599A of the Department of Housing and Urban Development's Appropriations Act for 1998 (Pub. L. 105-276, approved October 21, 1998) amended the definition of manufactured home to exclude “any self-propelled recreational vehicle.”

On May 13, 1976 (41 FR 19846), HUD issued 24 CFR part 3282, its Mobile Home Procedural and Enforcement regulations. In this regulation, HUD codified its first recreational vehicle exemption. Recognizing that recreational vehicles in excess of 256 square feet would be included in the definition of “mobile home,” HUD decided to exempt recreational vehicles from the scope of the regulation since they are not designed to be used as a permanent dwelling. HUD determined that, “[r]ecreational vehicles do not fall within the definition of mobile homes and are not subject to these regulations. A recreational vehicle is a vehicle, regardless of size, which is not designed to be used as a permanent dwelling, and in which the plumbing, heating, and electrical systems contained therein may be operated without connection to outside utilities and which are self-propelled or towed by a light duty vehicle.”

In 1980, the Housing and Community Development Act of 1980 (Pub. L. 96-399, approved October 8, 1980) amended the definition of “mobile home” in the Act by striking out “eight body feet or more in width and thirty-two body feet or more in length” and substituting “in traveling mode, is eight body feet or more in width or forty body feet or more in length or, when erected on site, is three hundred twenty or more square feet.” The Housing and Community Development Act of 1980 also added a provision to the Act that exempted from the coverage, “any structure which meets all the requirements of this paragraph [42 U.S.C. 5402(6)] except the size requirements and with respect to which the manufacturer voluntarily files a certification required by the Secretary and complies with the standards established under this title.”

On August 7, 1981 (46 FR 40498), HUD proposed removing the exemption for certain recreational vehicles from its Procedural and Enforcement regulations. HUD stated that it had received numerous comments from the manufactured housing industry and from the public criticizing the exemption, and that the exemption had been difficult to apply. HUD also stated that it proposed establishing a procedure under which manufacturers of units which meet the definition of manufactured home except for the size requirements may bring their units under the jurisdiction of the Act by providing for a certification. HUD stated that the proposed certification would be easy to comply with and place a minimal burden on the manufacturer.

HUD received numerous comments, however, which were critical of the proposal to do away with the recreational vehicle exemption. As a result, relying on a conference report on the 1980 amendments that directed HUD to consider a more flexible standard for smaller manufactured homes (such as park models) whose square footage is between 320 and 400 square feet, HUD continued the exemption but expanded it to its current form. Specifically, HUD determined that recreational vehicles were exempt from HUD's Manufactured Home Construction and Safety Standards and its Procedural and Enforcement Regulations if a unit is:

(1) Built on a single chassis;

(2) 400 Square feet or less when measured at the largest horizontal projections;

(3) Self-propelled or permanently towable by a light duty truck; and

(4) Designed primarily not for use as a permanent dwelling but as temporary living quarters for recreational, camping, travel, or seasonal use.

In 1988, HUD issued guidance to clarify the method for measuring a unit to determine whether it qualified as a recreational vehicle under HUD's exemption. In interpretative bulletin A-1-88,² HUD stated that “measurements shall be taken on the exterior of the home. The square footage includes all siding, corner trim, including storage space, and area enclosed by windows, but not the roofing overhang.” In 1997, HUD also allowed for lofts no more than 5 feet in height to be excluded from the recreational vehicle exemption's square footage requirements.³ Since 1988, A-1-88 and HUD's loft guidance have been the sole, definitive standards for measuring for the recreational vehicle exemption.

² http://portal.hud.gov/hudportal/documents/huddoc?id=A188.pdf.

³ http://portal.hud.gov/hudportal/documents/huddoc?id=loftletter.pdf.

In the fall of 2014, HUD determined that some manufacturers were producing park model recreational vehicles (PMRVs) which were in excess of the recreational vehicle exemption's 400 square foot threshold. A PMRV (also known as a recreational park trailer) is a trailer-type recreational vehicle designed to provide temporary accommodation for recreation, camping or seasonal use. PMRVs are built on a single chassis, mounted on wheels and generally have a gross trailer area not exceeding 400 square feet in the set-up mode. Based on this determination, HUD issued a memorandum on October 1, 2014, reiterating the method through which recreational vehicles should be measured to qualify for the recreational vehicle exemption.⁴ As part of that memorandum and in light of changes within both the Manufactured Housing and Recreational Vehicle industries, HUD agreed to submit the memorandum to the MHCC to consider whether the current exemption required updating.

⁴ . http://portal.hud.gov/hudportal/documents/huddoc?id=rvmemo.pdf.

Subsequently, HUD also discovered that some Fifth Wheel Travel Trailers could also fall within HUD regulations. A Fifth-Wheel Travel Trailer is a towable recreational vehicle mounted on wheels and designed to be towed by a motorized vehicle by means of a towing mechanism that is mounted above or forward of the tow vehicle's rear axle. However, HUD has not exercised regulatory oversight over Fifth Wheel Travel Trailers and considered them as falling within the regulatory exemption.

On December 2, 2014, the MHCC considered HUD's October 1, 2014, memorandum and recommended that HUD adopt language that more clearly differentiated recreational vehicles and manufactured housing. Specifically, the MHCC stated that “recreational vehicles, in their many shapes and sizes, are not manufactured homes and are outside of the manufactured home standards and regulations.” It also stated there is no need for a complicated definition of recreational vehicles and recommended that HUD revise its recreational vehicle exception to provide as follows:

Recreational vehicles are not subject to this part, part 3280. A recreational vehicle is a factory built vehicular structure designed only for recreational use and not as a primary residence or for permanent occupancy, built and certified in accordance with NFPA 1192-15 or ANSI A119.5-09 consensus standards for recreational vehicles and not certified as a manufactured home.

II. This Proposed Rule

After reviewing the MHCC's recommendation, HUD is accepting the recommendation with revision. Initially, HUD proposes to restructure the exemption by removing it from § 3282.8 and codifying it at § 3282.15. HUD is also proposing to incorporate ANSI's updated 2015 Recreational Park Trailer Standard, A119.5-15, which after review, HUD believes best reflects the current state of recreational vehicle construction. Finally, to ensure consumer awareness of the difference between manufactured housing and recreational vehicles and the construction standards used to build each, HUD is proposing to require that each ANSI A119.5-15 certified structure seeking an exemption include a notice to be prominently displayed in a temporary manner in the kitchen (i.e., countertop or exposed cabinet face) until the completion of the sale transaction that explains that the manufacturer certifies that the structure is a recreational vehicle designed only for recreational use, and not for use as a primary residence or for permanent occupancy. The notice shall further explain that the manufacturer certifies that the unit has been built in accordance with ANSI A119.5-15. This notice shall be placed prominently to ensure consumers are made plainly aware of the distinction between recreational vehicles that are not self-propelled and manufactured housing, reflecting the intent of the MHCC in its recommendation to draw a clear distinction between the two products.

III. Incorporation by Reference

This rulemaking proposes to incorporate ANSI A119.5-15 and NFPA 1192-15 consensus standards for Recreational Vehicles by reference. The ANSI A119.5-15 standard covers fire and life safety criteria and plumbing for PMRVs considered necessary to provide a reasonable level of protection from loss of life from fire and explosion. The NFPA 1192-15 standard provides the minimum construction standards considered necessary to protect against loss of life from fire and explosion for non-Park Model Recreational Vehicles. Both ANSI A119.5-15 and NFPA 1192-15 are available for review and comment via read-only, electronic access. NFPA 1192-15 is available for review at http://www.nfpa.org/freeaccess. ANSI A119.5-15 is available for review at www.rvia.org/?ESID=A119.

IV. Specific HUD Questions for Public Comment

The public is invited to comment on any of the specific provisions included in this proposed rule and is also invited to comment on the following questions and on any other related matters or suggestions regarding this proposed rule:

1. What if any costs beyond the notice requirements for recreational vehicle manufacturers seeking an ANSI A119.5 exception would be imposed on recreational vehicle manufacturers as a result of the implementation of this proposed rule? Are PMRVs that meet HUD's statutory and regulatory definitions of “manufactured homes” currently being constructed outside the scope of ANSI A119.5? If so, how many units are being built? What would be the costs of requiring these manufacturers to build to ANSI A119.5 in order to take advantage of the exemption? Would it be more efficient and advantageous for HUD to exercise direct regulatory oversight over this portion of the industry? What would be the costs and benefits of doing so?

2. In what manner, if any, should HUD ensure that recreational vehicles conforming to NFPA 1192-2015 be certified to be exempt from the provisions of HUD's Manufactured Home Procedural and Enforcement Regulations? For example, should HUD require that a Notice of certification be provided in each such recreational vehicle built to NFPA 1192-15 similar to the notice being proposed for PMRVs or should other methods be considered such as a label to be exempt from HUD's regulations?

3. As described in the preamble to this proposed rule, HUD has not exercised regulatory oversight over Fifth Wheel Recreational Vehicles that might meet the statutory and regulatory definitions of “manufactured home,” This proposed rule proposes to except Fifth Wheel Recreational Vehicles from regulatory oversight. Should HUD take a different approach and begin exercising regulatory oversight of these units that meet the statutory and regulatory definitions of “manufactured home?” What are the costs and benefits of bringing these units within HUD oversight? Should HUD exercise any regulatory authority over Fifth Wheelers or other forms of recreational vehicles?

V. Findings and Certifications

Regulatory Review—Executive Orders 12866 and 13563

Under Executive Order 12866 (Regulatory Planning and Review), a determination must be made whether a regulatory action is significant and, therefore, subject to review by the Office of Management and Budget (OMB) in accordance with the requirements of the order. Executive Order 13563 (Improving Regulations and Regulatory Review) directs executive agencies to analyze regulations that are “outmoded, ineffective, insufficient, or excessively burdensome, and to modify, streamline, expand, or repeal them in accordance with what has been learned. Executive Order 13563 also directs that, where relevant, feasible, and consistent with regulatory objectives, and to the extent permitted by law, agencies are to identify and consider regulatory approaches that reduce burdens and maintain flexibility and freedom of choice for the public. This proposed rule is not a significant regulatory action under section 3(f) of Executive Order 12866, Regulatory Planning and Review, and it was not reviewed by the Office of Management and Budget (OMB). This proposed rule revises the definition of recreational vehicle to clarify the types of recreational vehicles excepted by 24 CFR parts 3280 and 3282. In the past, both consumers and manufacturers of recreational vehicles have questioned whether certain recreational vehicles are subject to HUD's Construction and Safety Standards, codified in 24 CFR part 3280, and HUD's Manufactured Home Procedural and Enforcement Regulations, codified in 24 CFR part 3282. This proposed rule would provide that recreational vehicles are excepted from HUD regulation if the unit is built in conformance with either NFPA 1192-15, Standard for Recreational Vehicles, or ANSI A119.5-15, Recreational Park Trailer Standard. This rulemaking is not significant because it proposes to clarify rather than change or add substance to the existing regulation.

Regulatory Flexibility Act

The Regulatory Flexibility Act (RFA) (5 U.S.C. 601 et seq.) generally requires an agency to conduct a regulatory flexibility analysis of any rule subject to notice and comment rulemaking requirements, unless the agency certifies that the rule will not have a significant economic impact on a substantial number of small entities. It is HUD's position that this proposed rule would not have a significant economic impact on a substantial number of small entities. HUD and MHCC have recognized the benefit of clarifying the current recreational vehicle exemption to allow recreational vehicle manufacturers to certify certain units as recreational vehicles under a streamlined process. This proposed rule is intended to promote this goal by ensuring that recreational vehicle manufacturers have a clear understanding of which units qualify for the recreational vehicle exemption. In addition to benefiting the consumer by providing clarity regarding the manufacturing standards used to construct the unit, this proposed rule would reduce the paperwork burden and costs of construction delays on recreational vehicle manufacturers. Furthermore, this proposed rule's notice requirement would not have a significant economic impact on a substantial number of small entities, as the notice in question may be produced and displayed within a unit at marginal expense to the manufacturer. Easing the process for recreational vehicle certification assists manufacturers, while the notice requirement supports achievement of the goal of ensuring a clear distinction between recreational vehicle structures and residential manufactured housing. Accordingly, the undersigned certifies that this proposed rule would not have a significant economic impact on a substantial number of small entities. Notwithstanding HUD's view that this rule would not have a significant economic impact on a substantial number of small entities, HUD specifically invites comments regarding any less burdensome alternatives to this rule that will meet HUD's objectives and the statutory requirements.

Paperwork Reduction Act

The information collection requirements contained in this proposed rule have been submitted to the Office of Management and Budget (OMB) under the Paperwork Reduction Act of 1995 (44 U.S.C. 3501-3520). In accordance with the Paperwork Reduction Act, an agency may not conduct or sponsor, and a person is not required to respond to, a collection of information unless the collection displays a currently valid OMB control number. The burden of information collection in this proposed rule is estimated as follows:

Information collection | Number of respondents | Frequency of response | Total annual responses | Burden hours per response | Total annual burden hours | Hourly cost | Total annual cost
§ 3282.15 | 17 | 223 | 3791 | 0.1 | 378.1 | ¹ $30.63 | $11,581.20
Totals | 17 | 223 | 3791 | 0.1 | 378.1 | 30.63 | 11,581.20
¹ Hourly rate based on GS-11, Step 1 salary ($63,722 per year).

In accordance with 5 CFR 1320.8(d)(1), HUD is soliciting comments from members of the public and affected agencies concerning the information collection requirements in the proposed rule regarding:

(1) Whether the proposed collection of information is necessary for the proper performance of the functions of the agency, including whether the information will have practical utility;

(2) The accuracy of the agency's estimate of the burden of the proposed collection of information;

(3) Whether the proposed collection of information enhances the quality, utility, and clarity of the information to be collected; and

(4) Whether the proposed information collection minimizes the burden of the collection of information on those who are to respond; including through the use of appropriate automated collection techniques or other forms of information technology (e.g., permitting electronic submission of responses).

Interested persons are invited to submit comments regarding the information collection requirements in this rule. Under the provisions of 5 CFR part 1320, OMB is required to make a decision concerning this collection of information between 30 and 60 days after the publication date. Therefore, a comment on the information collection requirements is best assured of having its full effect if OMB receives the comment within 30 days of the publication date. This time frame does not affect the deadline for comments to the agency on the proposed rule, however. Comments must refer to the proposal by name and docket number (FR-5776-P-01) and must be sent to: HUD Desk Officer, Office of Management and Budget, New Executive Office Building, Washington, DC 20503, Fax number: (202) 395-6947; and Colette Pollard, HUD Reports Liaison Officer, Department of Housing and Urban Development, 451 7th Street SW., Room 2204, Washington, DC 20410.

Interested persons may submit comments regarding the information collection requirements electronically through the Federal eRulemaking Portal at http://www.regulations.gov. HUD strongly encourages commenters to submit comments electronically. Electronic submission of comments allows the commenter maximum time to prepare and submit a comment, ensures timely receipt by HUD, and enables HUD to make them immediately available to the public. Comments submitted electronically through the http://www.regulations.gov Web site can be viewed by other commenters and interested members of the public. Commenters should follow the instructions provided on that site to submit comments electronically.

Environmental Impact

A Finding of No Significant Impact with respect to the environment has been made in accordance with HUD regulations at 24 CFR part 50, which implement section 102(2)(C) of the National Environmental Policy Act of 1969 (42 U.S.C. 4332(2)(C)). The Finding of No Significant Impact is available for public inspection online at http://www.regulations.gov, and in person between the hours of 8 a.m. and 5 p.m. weekdays in the Regulations Division, Office of General Counsel, Department of Housing and Urban Development, 451 Seventh Street SW., Room 10276, Washington, DC 20410-0500. Due to security measures at the HUD Headquarters building, please schedule an appointment to review the Finding by calling the Regulations Division at (202) 402-3055 (this is not a toll-free number). Individuals with speech or hearing impairments may access this number via TTY by calling the Federal Relay Service at (800) 877-8339.

Executive Order 13132, Federalism

Executive Order 13132 (entitled “Federalism”) prohibits an agency from publishing any rule that has federalism implications if the rule either imposes substantial direct compliance costs on State and local governments or is not required by statute, or the rule preempts State law, unless the agency meets the consultation and funding requirements of section 6 of the Executive Order. This proposed rule will not have federalism implications and would not impose substantial direct compliance costs on State and local governments or preempt State law within the meaning of the Executive Order.

Unfunded Mandates Reform Act

Title II of the Unfunded Mandates Reform Act of 1995 (2 U.S.C. 1531-1538) (UMRA) establishes requirements for federal agencies to assess the effects of their regulatory actions on State, local, and tribal governments, and on the private sector. This proposed rule does not impose any federal mandates on any State, local, or tribal governments, or on the private sector, within the meaning of UMRA.

Catalog of Federal Domestic Assistance

The Catalog of Federal Domestic Assistance number for the Manufactured Housing Program is 14.171.

List of Subjects

24 CFR Part 3280

Housing standards, Incorporation by reference, Manufactured homes.

24 CFR Part 3282

Administrative practice and procedure, Consumer protection, Intergovernmental relations, Investigations, Manufactured homes, Reporting and recordkeeping requirements.

Accordingly, for the reasons stated in the preamble, HUD proposes to amend parts 3280 and 3282 of title 24 of the Code of Federal Regulations, as follows:

PART 3280—MANUFACTURED HOME CONSTRUCTION AND SAFETY STANDARDS

1. The authority citation for part 3280 continues to read as follows:

Authority: 42 U.S.C. 3535(d), 5403, and 5424.

2. In § 3280.2, revise the definition of “Manufactured home” to read as follows:

§ 3280.2 Definitions.

* * * * *

Manufactured home means a structure, transportable in one or more sections, which in the traveling mode is 8 body feet or more in width or 40 body feet or more in length or which when erected on-site is 320 or more square feet, and which is built on a permanent chassis and designed to be used as a dwelling with or without a permanent foundation when connected to the required utilities, and includes the plumbing, heating, air-conditioning, and electrical systems contained in the structure. This term includes all structures that meet the above requirements except the size requirements and with respect to which the manufacturer voluntarily files a certification pursuant to § 3282.13 of this chapter and complies with the construction and safety standards set forth in this part. The term does not include any recreational vehicle as specified in § 3282.15 of this chapter. Calculations used to determine the number of square feet in a structure will include the total of square feet for each transportable section comprising the completed structure and will be based on the structure's exterior dimensions measured at the largest horizontal projections when erected on site. These dimensions will include all expandable rooms, cabinets, and other projections containing interior space, but do not include bay windows. Nothing in this definition should be interpreted to mean that a manufactured home necessarily meets the requirements of HUD's Minimum Property Standards (HUD Handbook 4900.1) or that it is automatically eligible for financing under 12 U.S.C. 1709(b).

* * * * *

PART 3282—MANUFACTURED HOME PROCEDURAL AND ENFORCEMENT REGULATIONS

3. The authority citation for part 3282 is revised to read as follows:

Authority: 28 U.S.C. 2461, 42 U.S.C. 3535(d), 5403, and 5424.

§ 3282.8 [Amended]

4. In § 3282.8, remove and reserve paragraph (g).

5. Add § 3282.15 to subpart A to read as follows:

§ 3282.15 Exception for recreational vehicles.

(a) Exception. A recreational vehicle that meets the requirements of this section is exempt from 24 CFR parts 3280 and 3282.

(b) Definition. A Recreational Vehicle is:

(1) A factory built vehicular structure, not certified as a manufactured home;

(2) Designed only for recreational use and not as a primary residence or for permanent occupancy; and is either:

(3) Built and certified in accordance with either the NFPA 1192-15, Standard for Recreational Vehicles or ANSI A119.5-15, Recreational Park Trailer Standard as provided by paragraph (c) of this section; or

(4) Any vehicle which is self-propelled.

(c) Notice and certification requirements. In order to be exempt, an ANSI A119.5-15 certified recreational vehicle must contain a Notice prominently displayed in a temporary manner in the kitchen (i.e., countertop or exposed cabinet face) which must read as follows:

(1) Title of Notice. The title of the Notice shall be “*****NOTICE*****” which shall be legible and typed using bold letters at least 1 inch in size.

(2) Content of Notice. The content of the notice text shall be as follows:

The Manufacturer of this unit certifies that it is a Park Model Recreational Vehicle designed only for recreational use, and not for use as a primary residence or for permanent occupancy. The manufacturer of this unit further certifies that this unit has been built in accordance with the ANSI A119.5-15 consensus standard for Park Model Recreational Vehicles.

(3) Text of Notice. The text of the Notice, aside from the Notice's title shall be legible and typed using letters at least ½ inch in size.

(4) Removal of Notice. The Notice shall not be removed by any party until the entire sales transaction has been completed. A sales transaction is considered complete as defined under § 3282.252(b).

Dated: January 4, 2016.
Edward L. Golding,
Principal Deputy Assistant Secretary for Housing.

[FR Doc. 2016-02387 Filed 2-8-16; 8:45 am]

BILLING CODE 4210-67-P